DEPARTMENT OF COMMERCE

International Trade Administration

[A-405-803]

Purified Carboxymethylcellulose From Finland: Final Results of Antidumping Duty Administrative Review; 2012-2013

AGENCY: Enforcement and Compliance, International Trade Administration, Department of Commerce.

SUMMARY: On August 15, 2014, the Department of Commerce (the Department) published the Preliminary Results of the 2012-2013 administrative review of the antidumping duty order on Purified Carboxymethylcellulose from Finland.¹ This review covers one respondent, CP Kelco Oy (CP Kelco). For these final results of review, we continue to find that sales of the subject merchandise by CP Kelco have not been made at prices below normal value (NV).

¹ See Purified Carboxymethylcellulose from Finland: Notice of Preliminary Results of Antidumping Duty Administrative Review; 2012-2013, 79 FR 48119 (August 15, 2014) (Preliminary Results), and the accompanying Decision Memorandum (Preliminary Decision Memorandum).

DATES: Effective Date: December 22, 2014.

FOR FURTHER INFORMATION CONTACT: Michael J. Heaney or Robert James, AD/CVD Operations, Office VI, Enforcement and Compliance, International Trade Administration, U.S. Department of Commerce, 14th Street and Constitution Avenue NW., Washington, DC 20230; telephone (202) 482-4475 or (202) 482-0649, respectively.

SUPPLEMENTARY INFORMATION:

Background

On August 15, 2014, the Department published the Preliminary Results. We invited parties to comment on the Preliminary Results. In response, we received a comment from CP Kelco on September 15, 2014.² Petitioner ³ did not submit comments on the Preliminary Results.

² See “Letter in Lieu of Case Brief” from CP Kelco, regarding “Purified Carboxymethylcellulose from Finland,” dated September 15, 2014.

³ The Petitioner in this proceeding is Ashand Specialty Ingredients, a division of Hercules Incorporated.

Period of Review

The period of review (POR) is July 1, 2012, through June 30, 2013.

Scope of the Order

The merchandise covered by this order is all purified carboxymethylcellulose (CMC).⁴ The merchandise subject to this order is classified in the Harmonized Tariff Schedule of the United States (HTSUS) at subheading 3912.3100.

⁴ For a full description of the scope of the order, see Memorandum from Richard Weible, Director, Office VI, Antidumping and Countervailing Duty Operations, to Paul Piquado, Assistant Secretary, Enforcement and Compliance, “Issues and Decision Memorandum for the Final Results of the Antidumping Duty Administrative Review: Purified Carboxymethylcellulose from Finland; 2012-2013” (Issues and Decision Memorandum), which is dated concurrently with these final results and incorporated herein by reference.

Analysis of Comments Received

All issues raised by interested parties in this review are addressed in the Issues and Decision Memorandum. The Issues and Decision Memorandum is a public document and is on file electronically via Enforcement and Compliance's Antidumping and Countervailing Duty Centralized Electronic Service System (ACCESS).⁵ ACCESS is available to registered users at https://access.trade.gov and available to all parties in the Central Records Unit, room 7046 of the main Department of Commerce building. In addition, a complete version of the Issues and Decision Memorandum can be accessed directly on the internet at http://enforcement.trade.gov/frn/. The signed Issues and Decision Memorandum and electronic versions of the Issues and Decision Memorandum are identical in content. A list of the issue raised is attached to this notice as Appendix I. We have analyzed all interested party comments. Based on our analysis of the comments received, the margin in the final results is unchanged from that presented in the Preliminary Results.

⁵ On November 24, 2014, Enforcement and Compliance's AD and CVD Centralized Electronice Service System (“IA ACCESS”) to AD and CVD Centralized Electronice Service System (“ACCESS”). The Web site location was changed from http://iaacess.trade.gov to http://access.trade.gov. The Final Rule changing the references to the Regulations can be found at 79 FR 69046 (November 20, 2014).

Final Results of Review

We determine that the following dumping margin exists for the period July 1, 2012, through June 30, 2013:

Manufacturer/exporter | Weighted- average dumping margin (percentage)
CP Kelco Oy | 0.00

Pursuant to section 751(a)(2)(A) of the Tariff Act of 1930, as amended (the Act) and 19 CFR 351.212(b), the Department will determine, and U.S. Customs and Border Protection (CBP) shall assess, antidumping duties on all appropriate entries of subject merchandise in accordance with the final results of this review. Because CP Kelco's weighted average dumping margin is zero, in accordance with the Final Modification, we will instruct CBP to liquidate the appropriate entries without regard to antidumping duties.⁶ For entries of subject merchandise during the POR produced by CP Kelco Oy for which it did not know its merchandise was destined for the United States, we will instruct CBP to liquidate unreviewed entries at the all-others rate if there is no rate for the intermediate company(ies) involved in the transaction.⁷

⁶ See Antidumping Proceedings: Calculation of the Weighted-Average Dumping Margin and Assessment Rate in Certain Antidumping Duty Proceedings; Final Modification, 77 FR 8101, 8102 (February 14, 2012) (Final Modification).

⁷ For a full discussion of this clarification, see Antidumping and Countervailing Duty Proceedings: Assessment of Antidumping Duties, 68 FR 23954 (May 6, 2003).

We intend to issue assessment instructions to CBP 15 days after the date of publication of these final results of review.

Cash Deposit Requirements

The following cash deposit requirements will be effective upon publication of the final results of this administrative review for all shipments of the subject merchandise entered, or withdrawn from warehouse, for consumption on or after the publication date of these final results, consistent with section 751(a)(2) of the Act: (1) The cash deposit rate for CP Kelco will be 0.00 percent, the weighted average dumping margin established in the final results of this administrative review; (2) if the exporter is not a firm covered in this review, but was covered in a previous review or the original less than fair value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in this or any previous review conducted by the Department, the cash deposit rate will continue to be 6.65 percent, which is the all-others rate established in the LTFV investigation.⁸ These cash deposit requirements, when imposed, shall remain in effect until further notice.

⁸ See Notice of Antidumping Duty Order; Purified Carboxymethylcellulose From Finland, Mexico, the Netherlands and Sweden, 70 FR 39734 (July 11, 2005).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

The Department is issuing and publishing this notice in accordance with sections 751(a)(1) and 777(i)(1) of the Act.

Dated: December 12, 2014.
Paul Piquado,
Assistant Secretary, Enforcement and Compliance.

Appendix I

List of Topics Discussed in the Accompanying Issues and Decision Memorandum

I. Summary

II. Background

III. Scope of the Order

IV. Discussion Of Issues

a. Inclusion in Margin Program of Export Price Sales Invoiced Prior to the POR and Entered During the POR

V. Recommendation

[FR Doc. 2014-29924 Filed 12-19-14; 8:45 am]

BILLING CODE 3510-DS-P